DEPARTMENT OF TRANSPORTATION

Surface Transportation Board

[Ex Parte No. 333]

Sunshine Act Meeting

Time and Date: 2 p.m., November 16, 2005.

Place: The Board's Hearing Room, Surface Transportation Board, 1925 K Street, NW., Washington, DC 20423.

Status: The Board will meet to discuss among themselves the following agenda items. Although the conference is open for public observation, no public participation is permitted.

Matters to be Considered: STB Finance Docket No. 34738, Paducah & Louisville Railway, Inc.—Acquisition—CSX Transportation, Inc.

Embraced Case: STB Finance Docket No. 34738 (Sub-No. 1), Evansville Western Railway, Inc.—Acquisition and Operation Exemption—Paducah & Louisville Railway, Inc.

Embraced Case: STB Finance Docket No. 34738 (Sub-No. 2), Four Rivers Transportation, Inc. and Paducah & Louisville Railway, Inc.—Continuance in Control Exemption—Evansville Western Railway, Inc.

STB Finance Docket No. 28676 (Sub-No. 5), Grand Trunk Western Railroad—Control—Detroit, Toledo and Ironton Railroad Company and Detroit and Toledo Shore Line Railroad Company (Arbitration Review).

STB Finance Docket No. 34747, Central Puget Sound Regional Transit Authority—Acquisition Exemption—BNSF Railway Company.

STB Finance Docket No. 34734, Northeast Interchange Railway, LLC—Lease And Operation Exemption—Line in Croton-on-Hudson, NY.

STB Finance Docket No. 34540, The Columbus & Ohio River Railroad Company—Acquisition and Operation Exemption—Rail Lines of CSX Transportation, Inc.

STB Ex Parte No. 552 (Sub-No. 9), Railroad Revenue Adequacy—2004 Determination.

STB Finance Docket No. 34337, Michael H. Meyer, Trustee in Bankruptcy for California Western Railroad, Inc. v. North Coast Railroad Authority, d/b/a Northwestern Pacific Railroad.

STB Docket No. AB-862X, Twin State Railroad Company—Abandonment Exemption—in Caledonia and Essex Counties, VT.

STB Docket No. AB-878, City of Peoria and the Village of Peoria Heights, IL—Adverse Discontinuance—Pioneer Industrial Railway Company.

Contact Person for More Information: A. Dennis Watson, Office of Congressional and Public Services, Telephone: (202) 565-1596 FIRS: 1-800-877-8339.

Dated: November 9, 2005.
Vernon A. Williams,
Secretary.

[FR Doc. 05-22656 Filed 11-9-05; 3:53 pm]

BILLING CODE 4915-01-P